FEDERAL RESERVE SYSTEM

Notice of Proposals To Engage in or To Acquire Companies Engaged in Permissible Nonbanking Activities; Correction

This notice corrects a notice (FR Doc. 2015-08045) published on pages 18442 and 18443 of the issue for Wednesday, April 8, 2015.

Under the Federal Reserve Bank of San Francisco heading, the entry for Cathay Financial Holding Co., Ltd., Taipei, Taiwan, is revised to read as follows:

A. Federal Reserve Bank of San Francisco (Gerald C. Tsai, Director, Applications and Enforcement) 101 Market Street, San Francisco, California 94105-1579:

1. Cathay Financial Holding Co., Ltd., Cathay Life Insurance Co., Ltd., Liang Ting Industrial Co., Ltd., Lin Yuan Investment Co., Ltd., Pai Hsing Investment Co., Ltd., Tung Chi Capital Co., Ltd., and Wan Ta Investment Co., Ltd., all in Taipei, Taiwan, and Wan Bao Development Co., Ltd., New Taipei, Taiwan; to acquire Conning Holdings Corp., Hartford, Connecticut, and thereby engage in financial and investment advisory activities, and agency transactional services for customer investments, pursuant to sections 225.28(b)(6) and (b)(7).

Comments on this application must be received by April 23, 2015.

Board of Governors of the Federal Reserve System, April 13, 2015.
Michael J. Lewandowski,
Associate Secretary of the Board.

[FR Doc. 2015-08713 Filed 4-15-15; 8:45 am]

BILLING CODE 6210-01-P